DEPARTMENT OF ENERGY

Federal Energy Regulatory Commission

Notice Establishing Expedited Schedule

November 23, 2005.

[Docket No. EL00-95-000; Docket No. EL00-98-000; Docket No. PA02-2-000; Docket No. EL03-180-000; Docket No. EL03-154-000; Docket No. EL02-114-007; Docket No. EL02-115-008; Docket No. EL02-113-000; and Docket No. EL04-1-000]

San Diego Gas & Electric Co. v. Sellers of Energy and Ancillary Services; Investigation of Practices of the California Independent System Operator and the California Power Exchange; Fact-Finding Investigation into Possible Manipulation of Electric and Natural Gas Prices; Enron Power Marketing, Inc. and Enron Energy Services, Inc.; Enron Power Marketing, Inc. and Enron Energy Services, Inc.; Portland General Electric Company; Enron Power Marketing, Inc.; El Paso Electric Company, Enron Power Marketing, Inc., and Enron Capital and Trade Resources Corporation; and Enron Power Marketing, Inc.

Take notice that on November 18, 2005, Enron ¹ and the Nevada Companies ² (collectively the Parties) filed a motion asking that the Commission establish an expedited schedule for consideration of the Settlement and Release of Claims filed on November 16, 2005, in the above-captioned dockets (the Settlement). The Parties state that the Settlement resolves claims raised in the above-captioned proceedings arising from Enron's actions and transactions in western energy markets during the period from January 16 through June 25, 2005, including Enron's largest contract termination payment dispute.

¹ According to the motion, “Enron” or “Enron Parties” means the Enron Debtors and the Enron Non-Debtor Gas Entities. The “Enron Debtors” are Enron Corp.; Enron Power Marketing, Inc.; (EPMI); Enron North America Corp. (formerly known as Enron Capital and Trade Resources Corp.); Enron Energy Marketing Corp.; Enron Energy Services Inc.; Enron Energy Services North America, Inc.; Enron Capital & Trade Resources International Corp.; Enron Energy Services, LLC; Enron Energy Services Operations, Inc.; Enron Natural Gas Marketing Corp.; and ENA Upstream Company, LLC. The “Enron Non-Debtor Gas Entities” are Enron Canada Corp.; Enron Compression Services Company; and Enron MW, L.L.C.

² For purposes of the motion, the “Nevada Companies” means Nevada Power Company, Sierra Pacific Power Company and Sierra Pacific Resources.

According to the Parties, expedited filing of comments on the Settlement will facilitate Commission consideration of the Settlement, and will also streamline the captioned proceedings by removing issues surrounding the Nevada Companies' dealings with Enron from the proceedings without prejudicing participants. The Parties have requested that the Commission establish the following schedule: Initial comments on the Settlement should be filed by November 30, 2005, reply comments should be filed by December 7, 2005, and the Commission's decision should be rendered by January 31, 2006. The Parties also request that the Commission review the Settlement without prior certification by an Administrative Law Judge and an expedited decision by January 31, 2006, “to achieve the full benefits of the Settlement, to eliminate additional litigation expenses, to effectuate judicial economy, and to protect the interests of all Remaining Participants.³ Finally, the Parties assert that they are authorized to state that Commission Trial Staff does not object to the expedited procedures requested for the comment and review process.

³ According to the Parties, “Remaining Participants” include the Commission's Trial Staff, the City of Santa Clara, d/b/a/ Silicon Valley Power, the Public Utility District No. 1 of Snohomish County, Washington, Valley Electric Association, Inc., and the Metropolitan Water District of Southern California.

Upon consideration, the Commission establishes the following shorted comment procedures, as requested by the Parties: Initial comments on the Settlement must be filed no later than November 30, 2005, and reply comments must be filed no later than December 7, 2005.

Initial Comment Date: 5 p.m. eastern time on November 30, 2005.

Reply Comments Date: 5 p.m. eastern time on December 7, 2005.

Magalie R. Salas,
Secretary.

[FR Doc. E5-6691 Filed 11-29-05; 8:45 am]

BILLING CODE 6717-01-P